DEPARTMENT OF HOMELAND SECURITY

Coast Guard

[USCG-2009-0874]

National Offshore Safety Advisory Committee; Meeting

AGENCY: Coast Guard, DHS.

ACTION: Notice of meeting.

SUMMARY: The National Offshore Safety Advisory Committee (NOSAC) will meet, in Ocean Springs MS, to discuss various issues relating to offshore safety and security. The meeting will be open to the public.

DATES: NOSAC will meet on Thursday, November 5, 2009, from 9 a.m. to 3:30 p.m. This meeting may close early if all business is finished. Written material and requests to make oral presentations should reach the Coast Guard on or before October 22, 2009. Requests to have a copy of your material distributed to each member of the committee should reach the Coast Guard on or before October 22, 2009.

ADDRESSES: NOSAC will meet in the “Banquet Hall” room of the Gulf Hills Hotel and Conference Center, 13701 Paso Road, Ocean Springs, Mississippi. Send written material and requests to make oral presentations to Commander P.W. Clark, Designated Federal Officer (DFO), Commandant (CG-5222), U.S. Coast Guard, 2100 Second Street, SW., STOP 7126, Washington, DC 20593-7126. This notice is available on our online docket, USCG-2009-0874, at http://www.regulations.gov.

FOR FURTHER INFORMATION CONTACT: Commander P.W. Clark, Designated Federal Officer of NOSAC, or Mr. Jim Magill, Assistant Designated Federal Officer, telephone 202-372-1414, fax 202-372-1926.

SUPPLEMENTARY INFORMATION: Notice of this meeting is given under the Federal Advisory Committee Act, 5 U.S.C. App. (Pub. L. 92-463).

Agenda of Meeting

The agenda for the November 5, 2009, committee meeting includes the following:

(1) A discussion on issues concerning emerging International Maritime Organization (IMO) standards and activities and how they might impact OCS companies/operations;

(2) An update on the project to revise 46 CFR, Subchapter V, Subpart B—Commercial Diving Operations;

(3) An update on the Coast Guard's policy with respect to MARPOL Annex II Implementation and IMO Resolution A.673 for Offshore Supply Vessels (OSVs);

(4) An update on the Sub-Committee reviewing activities involving the employment of Foreign Workers on the OCS;

(5) An update from the Sub-Committee researching the Evacuation of Injured Workers from remote Drilling and Production Facilities;

(6) An update on the proposed regulations governing the Advanced Notice of Arrival (NOA) for units arriving on the U.S. Outer Continental Shelf (OCS);

(7) An update on the USCG's request for NOSAC to provide information and industry information on current costs and operations on OCS activities;

(8) The status of and development of policies and guidance surrounding the increased activities associated with the development of Offshore Renewable Energy Installations on the OCS, and;

(9) A discussion of safe lifting operations occurring on the OCS.

Procedural

The meeting is open to the public. Please note that the meeting may close early if all business is finished. At the Chair's discretion, members of the public may make oral presentations during the meeting. If you would like to make an oral presentation at the meeting, please notify the DFO no later than October 22, 2009. Written material for distribution at the meeting should reach the Coast Guard no later than October 22, 2009. If you would like a copy of your material distributed to each member of the committee in advance of the meeting, please submit 25 copies to the DFO no later than October 22, 2009.

Information on Services for Individuals With Disabilities

For information on facilities or services for individuals with disabilities or to request special assistance at the meeting, contact the DFO as soon as possible.

Dated: September 16, 2009.
J.G. Lantz,
Director of Commercial Regulations and Standards.

[FR Doc. E9-22982 Filed 9-22-09; 8:45 am]

BILLING CODE 4910-15-P